DEPARTMENT OF COMMERCE

[I.D. 101501D]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southwest Region Vessel Identification Requirements.

Form Number(s): None.

OMB Approval Number: 0648-0361.

Type of Request: Regular submission.

Burden Hours: 286.

Number of Respondents: 356.

Average Hours Per Response: 45 minutes for all but purse seine vessels; 75 minutes for purse seine vessels.

Needs and Uses: Vessels in certain federally-regulated fisheries off the West Coast or in the Western Pacific are required to display the vessel's official number in three locations. Purse seine vessels in the South Pacific are required to display their international radio call sign in three locations and on any helicopter or skiff. The requirement is necessary to aid enforcement of fishery regulations.

Affected Public: Business or other for-profit organizations, individuals or households.

Frequency: Third party disclosure.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: October 12, 2001.
Madeleine Clayton,
Departmental Paperwork Clearance Officer, Office of the Chief Information Officer.

[FR Doc. 01-26453 Filed 10-18-01; 8:45 am]

BILLING CODE 3510-22-S